ENVIRONMENTAL PROTECTION AGENCY

[ER-FRL-9023-8]

Environmental Impact Statements; Notice of Availability

Responsible Agency: Office of Federal Activities, General Information (202) 564-7146 or http://www2.epa.gov/nepa.

Weekly Receipt of Environmental Impact Statements (EISs)

Filed 10/26/2015 Through 10/30/2015

Pursuant to 40 CFR 1506.9.

Notice

Section 309(a) of the Clean Air Act requires that EPA make public its comments on EISs issued by other Federal agencies. EPA's comment letters on EISs are available at: https://cdxnodengn.epa.gov/cdx-nepa-public/action/eis/search.

EIS No. 20150304, Draft, VA, SD, NHPA Section 106 Consultation: Reconfiguration of VA Black Hills Health Care System, Comment Period Ends: 01/05/2016, Contact: Luke Epperson 605-720-7170.

EIS No. 20150305, Draft, FERC, AK, Sweetheart Lake Hydroelectric Project-FERC Project No. 13563-003, Comment Period Ends: 12/29/2015, Contact: John Matkowski 202-502-8576.

EIS No. 20150306, Final, BLM, WAPA, NM, Southline Transmission Project, Review Period Ends: 12/07/2015, Contact: Mark Mackiewicz 435-636-6316.

The U.S. Department of the Interior's Bureau of Land Management and the U.S. Department of Energy's Western Area Power Administration are joint lead agencies for the above project.

EIS No. 20150307, Final, DOE, VT, New England Clean Power Link Project, Review Period Ends: 12/07/2015, Contact: Brian Mills 202-586-8267.

EIS No. 20150308, Final, USFWS, MA, Monomoy National Wildlife Refuge Comprehensive Conservation Plan, Review Period Ends: 12/07/2015, Contact: Nancy McGarigal 413-253-8562.

EIS No. 20150309, Draft, BIA, OK, Osage County Oil and Gas, Comment Period Ends: 12/21/2015, Contact: Jeannine Hale 918-781-4660.

EIS No. 20150310, Final, DOE, MN, Great Northern Transmission Line Project, Review Period Ends: 12/07/2015, Contact: Dr. Julie Ann Smith 202-586-7668.

EIS No. 20150311, Draft, GSA, DC, FBI Headquarters Consolidation, Comment Period Ends: 01/06/2016, Contact: Denise Decker 202-746-7891.

Amended Notices

EIS No. 20150303, Revised Final, USFS, NV, Greater Sage Grouse Bi-State Distinct Population Segment Forest Plan Amendment, Review Period Ends: 11/30/2015, Contact: James Winfrey 775-355-5308.

Revision to the FR Notice Published 10/30/2015; Correction to the EIS Status should be Revised Final.

Dated: November 3, 2015.
Karin Leff,
Acting Director, NEPA Compliance Division, Office of Federal Activities.

[FR Doc. 2015-28355 Filed 11-5-15; 8:45 am]

BILLING CODE 6560-50-P